OFFICE OF MANAGEMENT AND BUDGET

Public Availability of Year 2001 Agency Inventories Under the Federal Activities Inventory Reform Act of 1998 (Public Law 105-270) (“FAIR Act”)

AGENCY: Office of Management and Budget, Executive Office of the President.

ACTION: Notice of Public Availability of Agency Inventories of Activities That Are Not Inherently Governmental.

SUMMARY: Agency Inventories of Activities that are not Inherently Governmental are now available to the public from the agencies listed below, in accordance with the “Federal Activities Inventory Reform Act of 1998” (Public Law 105-270) (“FAIR Act”). This is the third release of the 2001 FAIR Act inventories. In addition, the Office of Federal Procurement Policy has prepared and has made available a summary FAIR Act User's Guide through its Internet site: http://www.whitehouse.gov/OMB/procurement/index.html. This User's Guide will help interested parties review 2001 FAIR Act inventories, and will also include the web-site addresses to access agency inventories.

The FAIR Act requires that OMB publish an announcement of public availability of agency Inventories of Activities that are not Inherently Governmental upon completion of OMB's review and consultation process concerning the content of the agencies' inventory submissions. OMB has now completed this process for the year 2001.

The attached Inventories of Activities that are not Inherently Governmental are now available.

Mitchell E. Daniels, Jr.,
Director.

Attachment.

Attachment
Agency | Contact
Agriculture | Joseph Marshall, 202-720-8345 Website: www.usda.gov/ocfo.
Agriculture (OIG) | Delmas Thornsbury, 202-720-4474 Website: www.usda.gov/oig.
Commodity Futures Trading Commission | Emory Bevill, 202-418-5187 Website: www.cftc.gov/.
Central Intelligence Agency | CIA Office of Public Affairs, 703-482-0623. No Website available.
Federal Financial Institutions Examinations Council Appraisal Subcommittee | Marc Weinberg, 202-872-7520 Website: www.asc.gov.
General Services Administration | Tom Fitzpatrick, 202-501-0324 Website: www.cfo.gsa.gov.
Housing and Urban Development | Janice Blake-Green, 202-708-0638 Website: www.hud.gov/cfo/cforept.html.
Justice | Larry Silvis, 202-616-3754 Website: www.usdoj.gov.
Labor | Kathy Alejandro, 202-693-4026 Website: www.dol.gov.
National Capital Planning Commission | Connie Harshaw, 202-482-7200 Website: www.ncpc.gov.
National Labor Relations Board (OIG) | Emil George, 202-273-1960 Website: www.nlrb.gov/active.html.
Social Security Administration | Phil Kelly, 410-965-4656 Website: www.ssa.gov/budget.
Smithsonian Institution | Bruce Dauer, 202-357-2917 Website: www.si.edu.
Transportation | Bill Moga, 202-366-9666 Website: www.dot.gov.
Treasury | Kevin Whitfield, 202-622-0248 Website: www.treas.gov/fair.
U.S. Commission on Civil Rights | George Harbison, 202-376-8356 Website: www.usccr.gov.
Woodrow Wilson Center | Ronnie Dempsey, 202-691-4216 Website: www.wilsoncenter.org.

[FR Doc. 02-43 Filed 1-2-02; 8:45 am]

BILLING CODE 3110-01-P